DEPARTMENT OF THE INTERIOR

National Park Service

30-Day Notice of Submission to OMB of Request for Extension of Information Collection Number 1024-0026; Opportunity for Public Comment

AGENCY: National Park Service, Interior.

ACTION: Notice of submission to OMB and request for comments.

SUMMARY: Under the Provisions of the Paperwork Reduction Act of 1995 (Pub. L. 104-13, 44 U.S.C. 3507) and 5 CFR part 1320 Reporting and Recordkeeping Requirements, the National Park Service (NPS) is submitting to the Office of Management and Budget (OMB) a request for extension of three (3) information collection forms and relevant NPS regulations currently approved under OMB control number 1024-0026 that are associated with permits pertaining to special public uses of NPS-managed lands.

DATES: Public comments on this request must be received by January 29, 2007 to be assured of consideration.

ADDRESSES: Send comments to the Desk Officer for the Interior Department, OMB Office of Information and Regulatory Affairs, via facsimile to 202-395-6566, or by e-mail to OIRA_DOCKET@omb.eop.gov. Please send a copy of your comments to Leonard Stowe, National Park Service, 1849 C Street, NW. (2605), Washington, DC 20240 or by e-mail to Leonard_Stowe@nps.gov.

FOR FURTHER INFORMATION CONTACT: Lee Dickinson, Special Park Uses Program Manager, National Park Service at 202-513-7092 or by e-mail at Lee_Dickinson@nps.gov. Copies of the permit application forms may be obtained from the Internet at: http://www.nps.gov/policy/DOrders/Permitforms.pdf.

SUPPLEMENTARY INFORMATION: Under NPS regulations, the information gathered is used to determined the presence or absence of derogation of the resource and allow the park manager to make a valued judgment as to whether or not to allow the requested permit. The uses considered under these permit applications generally include but are not limited to special events, filming and photography, and grazing in parks where such activity is authorized by law.

(1) Title: Special Park Use Applications (Portions of 36 CFR 1-7, 3, 20, 34).

(2) NPS Form Numbers: 10-930, 10-931, 10-932.

(3) OMB Control Number: 1024-0026.

(4) Current Expiration Date: December 31, 2006.

(5) Type of Request: Extension of currently approved collection.

(6) Description of Applicants: Individuals, not-for-profit institutions, for-profit business.

(7) Estimated Annual Number of Applicants: 18,600.

(8) Estimated Annual Number of Submissions: 18,600.

(9) Estimated Total Annual Burden: 11,150 hours.

(10) Non-hour cost of $50 per submission for filing fee.

Public comments were received a during a 60-day public comment period (71 FR 61069) that closed December 18, 2006. One commenter requested a copy of the entire Information Collection Request associated with the FR notice. The second commenter requested that information on the types of activities permitted through special park use permits be available to the public. No changes were made to the information collection renewal request as a result of these comments. The public has a second opportunity to submit comments at this time, as to:

(1) Whether the collection of information is necessary for the proper performance of the functions of the bureau, including whether the information will have practical utility;

(2) The accuracy of the bureau's estimate of the burden of the collection of information, including the validity of the methodology and assumptions used;

(3) The quality, utility, and clarity of the information to be collected; and

(4) How to minimize the burden of the collection of information on those who are to respond, including the use of appropriate automated electronic, mechanical, or other forms of information technology.

All comments will become a matter of public record.

Davis Lowery
Acting NPS Information Collection Clearance Officer.

[FR Doc. 06-9947 Filed 12-27-06; 8:45 am]

BILLING CODE 4312-52-M